Proclamation 7549 of April 30, 2002

Loyalty Day, 2002

By the President of the United States of America

A Proclamation

Ours is a Nation of people who demonstrate their patriotic loyalty through service to our country. Whether born on American soil or abroad, Americans appreciate patriotism and loyalty to our country. President Woodrow Wilson said, “Loyalty means nothing unless it has at its heart the absolute principle of self-sacrifice.” Americans affirmed this sense of loyalty for their homeland during and following the attacks of September 11, 2001. Brave rescuers died while saving others. Passengers on a hijacked airplane gave their lives to prevent the deaths of fellow Americans. Americans pledged to fight terrorism, both here and across the globe.

Since that tragic day, citizens across our country overwhelmingly gave their time and resources to help those in need. These countless expressions of patriotism reflect an inspiring devotion to our fellow citizens and our Nation.

For our military personnel, loyalty and dedication is a way of life. The men and women of our Armed Forces embody loyalty as they work to protect our ideals. Throughout our history, America's military has heroically defended our country and its founding principles of freedom and democracy. Today, our military is again responding to the call of duty with courage and pride. These brave individuals who risk their lives fighting terror honor those who have made the ultimate sacrifice on behalf of the American people.

Our Constitution speaks of forming “a more perfect Union,” and Americans have always responded to this call with commitment and character. Brave citizens have fought to abolish slavery, to extend voting rights to all our citizens, and to uphold civil rights. The struggle to improve our Nation also takes place on an individual level, one person at a time. Men and women of all ages and from all over the country work every day to help others in need. Through families, community groups, and places of worship, Americans give of themselves to help others realize a brighter future.

Our loyalty to American democracy and freedom is born of pride, appreciation, and understanding of our country. We are loyal to America, our fellow citizens, and these ideals. Loyalty Day provides an opportunity to recognize those who demonstrate their commitment to our country through service and sacrifice. These individuals serve as a model for all Americans.

The Congress, by Public Law 85-529, as amended, has designated May 1 of each year as “Loyalty Day.” On this special occasion, I encourage all Americans to join me in reaffirming our allegiance to our blessed Nation.

NOW, THEREFORE, I, GEORGE W. BUSH, President of the United States of America, by virtue of the authority vested in me by the Constitution and laws of the United States, do hereby proclaim May 1, 2002, as Loyalty Day. I call upon all Americans to take part in celebrating this national observance.

IN WITNESS WHEREOF, I have hereunto set my hand this thirtieth day of April, in the year of our Lord two thousand two, and of the Independence of the United States of America the two hundred and twenty-sixth.

B

[FR Doc. 02-11246

Filed 5-2-02; 9:32 am]

Billing code 3195-01-P